DEPARTMENT OF ENERGY

Federal Energy Regulatory Commission

[Project No. 1389-060]

Southern California Edison Company; Notice of Revised Procedural Schedule

This notice revises the Federal Energy Regulatory Commission's (Commission) schedule for processing the relicense application for the Rush Creek Hydroelectric Project No. 1389, which was filed by the Southern California Edison Company on January 22, 2025. On February 5, 2025, Commission staff issued a Notice of Application Tendered for Filing with the Commission, which included an initial procedural schedule.

By this notice, Commission staff is updating the procedural schedule. The revised schedule is shown below. Further revisions to the schedule may be made as appropriate.

Milestone | Target date
Additional Information Request (if necessary) | April 2026.
Notice of Acceptance | June 2026.
Issue Notice of Ready for Environmental Analysis | June 2026.

Any questions regarding this notice may be directed to Quinn Emmering at (202) 502-6382 or Quinn.Emmering@ferc.gov.

(Authority: 18 CFR 2.1)

Dated: December 9, 2025.
Debbie-Anne A. Reese,
Secretary.

[FR Doc. 2025-22736 Filed 12-12-25; 8:45 am]

BILLING CODE 6717-01-P